DEPARTMENT OF THE INTERIOR

Minerals Management Service

30 CFR Parts 203 and 260

RIN 1010-AD29

Royalty Relief for Deepwater Outer Continental Shelf Oil and Gas Leases—Conforming Regulations to Court Decision

AGENCY: Minerals Management Service (MMS), Interior.

ACTION: Final rule; delay of effective date.

SUMMARY: MMS is delaying until December 8, 2008, 60 days from the date of publication, the effective date of a rule that will conform the regulations at 30 CFR parts 203 and 260 to the Federal Court's decision in Santa Fe Snyder Corp. v. Norton, 385 F.3d 884 (5th Cir. 2004). This delay of effective date is necessary to comply with the Congressional review provisions of the Small Business Regulatory Enforcement Fairness Act of 1996, 5 U.S.C. 801 et seq. (the Congressional Review Act).

DATES: The effective date of the rule amending 30 CFR parts 203 and 260 published at 73 FR 58467, October 7, 2008 is delayed until December 8, 2008.

FOR FURTHER INFORMATION CONTACT: Marshall Rose, Chief, Economics Division, Minerals Management Service at (703) 787-1536.

SUPPLEMENTARY INFORMATION: The rule published October 7, 2008, amends 30 CFR parts 203 and 260 to conform the regulations to the decision in Santa Fe Snyder. That decision found that certain provisions of the MMS regulations interpreting section 304 of the Deep Water Royalty Relief Act are contrary to the requirements of the statute. Under the rule, MMS will determine lessees' royalty under leases subject to Deep Water Royalty Relief Act section 304, for both past and future periods, in a manner consistent with the decision in Santa Fe Snyder. As stated in the preamble therein, the final rule has been determined to be both “major” and “economically significant.” Accordingly, the Congressional Review Act requires that before this final rule can take effect, an agency shall submit the rule to Congress for review for a period of 60 days from the date of publication in the Federal Register or receipt of the rule by Congress, whichever is later. 5 U.S.C. 801(a)(3)(A). This delay of the effective date will assure ample time for that required review.

Dated: October 23, 2008.
C. Stephen Allred,
Assistant Secretary—Land and Minerals Management.

[FR Doc. E8-25815 Filed 10-28-08; 8:45 am]

BILLING CODE 4310-MR-P